DEPARTMENT OF AGRICULTURE

Forest Service

RIN 0596-AC91

Proposed Directives for Forest Service Concession Campground Special Use Permits

AGENCY: Forest Service, USDA.

ACTION: Notice of proposed directives; request for comment.

SUMMARY: The Forest Service is proposing changes to its directives governing permits for operation of campground and related Granger-Thye concessions (concessions with Government-owned improvements) on National Forest System lands. The proposed directives would reduce from 50 to 10 percent the camping fee discount campground concessioners (concessioners) are required to offer to holders of Senior and Access Passes and Golden Age and Golden Access Passports. Additionally, the proposed directives would allow concessioners to propose camping fee discounts above 10 percent for these pass holders in their applications; would require concessioners to offer a 10 percent discount to holders of Senior and Access Passes and Golden Age and Golden Access Passports for standard amenity recreation fee (SARF) day use sites that they operate; and would require concessioners to provide free use to holders of Annual and Volunteer Passes at SARF day use sites they operate. Furthermore, existing concessioners could request amendment of their permit to incorporate all of these changes, as well as an increase in their land fee for the remaining term of their permit if their gross revenue increases significantly due to the reduction in the camping fee discount. Alternatively, the proposed directive changes would allow existing concessioners to continue operating under the terms of their current permit until it expires. Public comment on the proposed directives is invited and will be considered in development of the final directives.

DATES: Comments must be received in writing by February 1, 2010.

ADDRESSES: Send comments electronically by following the instructions at the Federal eRulemaking portal at http://www.regulations.gov. Comments also may be submitted by mail to U.S. Forest Service, Attn: Carolyn Holbrook, Recreation and Heritage Resources Staff, 1400 Independence Avenue, SW., Stop 1125, Washington, DC 20250-1125. If comments are sent electronically, please do not send duplicate comments by mail. Please confine comments to issues pertinent to the proposed directives, explain the reasons for any recommended changes, and, where possible, reference the specific section and wording being addressed.

All comments, including names and addresses when provided, will be placed in the record and will be available for public inspection. The public may inspect comments received on these proposed directives in the Office of the Director, Recreation, Heritage, and Volunteer Resources Staff, 4th Floor Central, Sidney R. Yates Federal Building, 14th and Independence Avenue, SW., Washington, DC, on business days between 8:30 a.m. and 4 p.m. Those wishing to inspect comments are encouraged to call ahead at 202-205-1426 to facilitate entry into the building. Copies of comments may be requested under the Freedom of Information Act.

FOR FURTHER INFORMATION CONTACT: Carolyn Holbrook, 202-205-1426, Recreation, Heritage, and Volunteer Resources Staff.

SUPPLEMENTARY INFORMATION:

1. Background and Need for the Proposed Directives

a. The Campground Concession Program

Three decades ago, Forest Service personnel operated and maintained most Government-owned recreation facilities on National Forest System lands. Around that time, the Forest Service began experimenting with concession operation of its developed recreation sites. The program has evolved to a point where most highly developed campgrounds on National Forest System lands are managed by concessioners (approximately 50 percent of Forest Service camping capacity, or 82 percent of the reservable campsites listed in the National Recreation Reservation Service (NRRS) are managed by concessioners). The Forest Service administers approximately 150 permits for operation of Government-owned campgrounds and related recreation sites under Section 7 of the Granger-Thye Act, 16 U.S.C. 580d.

These campground concessions vary based on size, the number of developed recreation sites included, and the range of revenue generated. For example, a small campground concession with one to three developed recreation sites might produce revenue ranging from $50,000 to $105,000, while a large campground concession with 10 to 12 developed recreation sites might generate revenue in excess of $1,000,000. The Agency anticipates that opportunities to camp and recreate at developed recreation sites will continue to be important to the public and that the Forest Service will continue to rely on concessioners to manage developed camping opportunities.

b. Passes Authorized by the Land and Water Conservation Fund Act and the Federal Lands Recreation Enhancement Act

The Forest Service authorizes operation of Government-owned campgrounds and related Granger-Thye concessions under Section 7 of the Granger-Thye Act (16 U.S.C. 580d).

From its enactment in 1965 until its repeal in 2004, section 4 of the Land and Water Conservation Fund Act (LWCFA) (16 U.S.C. 460l-6a) established criteria for charging a use fee for developed recreation sites on National Forest System lands. From 1996 until its repeal in 2004, the Recreational Fee Demonstration Program (Fee Demo) statute (Pub. L. 104-134, § 315) provided separate, broader authority than the LWCFA for charging a use fee for developed recreation sites. However, as a matter of policy, until 2004, concessioners were authorized to charge fees for developed recreation sites only if the Forest Service could charge fees for those sites under the LWCFA (see Forest Service Manual (FSM) 2344.31).

In December 2004, the Federal Lands Recreation Enhancement Act (REA) (16 U.S.C. 6801-6814) supplanted the LWCFA and the Fee Demo statute as the sole recreation fee authority for the Forest Service. The Forest Service continued to utilize the same standards, now the criteria in REA, for determining whether developed recreation sites, both those managed by the Forest Service and those managed by concessioners, were eligible for charging a use fee. The campground concession prospectus was updated to reflect changes in REA. However, FSM 2344.31 must now be updated to replace references to the LWCFA with references to REA.

Additionally, the LWCFA established three passes: (1) A lifetime pass for senior citizens and permanent residents, called the Golden Age Passport; (2) a lifetime pass for citizens and permanent residents with a permanent disability under Federal law, called the Golden Access Passport; and (3) an annual pass available to anyone, called the Golden Eagle Passport. The Golden Eagle Passport entitled the holder to free admission at Federal recreation sites where an entrance fee was charged. The Golden Age and Golden Access Passports entitled the holder to free admission at Federal recreation sites where an entrance fee was charged, as well as a 50 percent discount on camping fees charged at Federal recreation sites. Forest Service policy at FSM 2344.31 also requires concessioners to provide a 50 percent discount on camping fees to holders of the Golden Age or Golden Access Passport.

REA replaced the Golden Eagle, Golden Age, and Golden Access Passports with the America the Beautiful-National Parks and Federal Recreational Lands Pass (Interagency Pass). The Interagency Pass consists of four passes: (1) The Annual Pass, which replaced the Golden Eagle Passport; (2) the Senior Pass, which replaced the Golden Age Passport; (3) the Access Pass, which replaced the Golden Access Passport; and (4) the new Volunteer Pass, for those who volunteer on Federal lands. REA provides that the Golden Eagle, Golden Age, and Golden Access Passports remain in effect under the terms under which they were issued, to the extent practicable, until they are lost, stolen, or expired.

REA prohibits the Forest Service from charging entrance fees, but authorizes the Forest Service to charge an SARF for recreation sites that meet certain criteria, including day use sites, and an expanded amenity recreation fee for campgrounds and other facilities that meet certain criteria. REA provides that the holder of an Interagency Pass, including the Annual, Senior, and Access Passes, is entitled to free use at Forest Service recreation sites where an SARF is charged. Unlike the LWCFA, however, REA does not provide that the holder of a senior citizen or disability pass is entitled to a 50 percent discount on camping fees charged at Federal recreation sites. However, the participating agencies, including the Forest Service, elected to apply the 50 percent discount on camping fees provided under the LWCFA to holders of Senior and Access Passes issued under REA at federally-operated recreation sites. Consistent with FSM 2344.31, since enactment of REA, the Forest Service has also continued to require concessioners to provide a 50 percent discount on camping fees to holders of Golden Age and Golden Access Passports and Senior and Access Passes.

c. The Effects of the 50 Percent Discount on Camping Fees

The Forest Service is the only participating agency that requires concessioners to provide a 50 percent discount on camping fees to holders of these passes. For example, the National Park Service allows its concessioners to elect whether to honor these passes, and most elect not to honor them. In addition, concessioners have raised five concerns regarding the 50 percent discount on camping fees: (1) REA does not require a camping fee discount for Senior and Access Passes; (2) a 50 percent discount is very steep and is not comparable to other discounts in the private sector; (3) the 50 percent discount is non-negotiable and thus cannot be used as a marketing tool to encourage off-peak use; (4) application of the 50 percent discount to holders of Senior and Access Passes is unreasonable in view of the growing number of senior citizens in the United States; and (5) the 50 percent discount requires concessioners to raise camping fees to compensate for the loss in revenue, thus increasing prices for non-seniors and discouraging a future generation of campers.

d. Not Honoring the Interagency Pass at SARF Day Use Sites Operated by Concessioners

A converse problem has emerged with SARF day use sites that are operated as concessions. After enactment of REA, the Forest Service took the position that concessioners should not be required to provide free use at SARF sites to any Interagency Pass holders. There were several reasons for this policy, including the need to (1) Maintain eligibility for the regulatory exemption from the Service Contract Act at 29 CFR 4.133(b) by not requiring concessioners to provide extensive free services; (2) honor the terms under which these concessions were offered; and (3) maintain the economic viability of concessions.

However, not requiring concessioners to honor Interagency Passes at SARF day use sites has resulted in misunderstanding by some Interagency Pass holders, who expect to have their passes honored at all SARF day use sites. The problem has created a dilemma for the Forest Service. The Agency believes that all pass holders should understand how their passes will be honored at concessions. Additionally, the Agency believes that holders of the Interagency Pass have a reasonable expectation that their passes will be honored at all SARF day use sites.

However, it would not be economically viable to require concessioners to provide free use to all Interagency Pass holders. Not only were these costs not anticipated when the applications for these concessions were submitted, but these requirements, in addition to the camping fee discount, would be detrimental to the economics of the concessions and could render many of them nonviable. Furthermore, although camping fees are the primary source of revenue for most concessions, for some, the primary source of revenue is day use sites. Concessioners are concerned that the Agency will remove these sites from concessions to satisfy the expectations of Interagency Pass holders and thus eliminate viable business opportunities.

e. Annual Interagency Pass Sales by the Forest Service

Based on data obtained from a 2008 field survey, the issuance of Interagency Passes by the Forest Service can be characterized as follows:

Type of pass | Number sold | Percentage of total
Access | 11,991 | 15.7
Senior | 47,488 | 62.0
Annual | 16,437 | 21.5
Volunteer | 227 | 00.3
Total | 76,143 | 100

Senior and Access Passes, which currently entitle the holder to a 50 percent discount on camping fees at concessions, represent more than 78 percent of Interagency Passes issued by the Forest Service. Annual Passes, which are not currently honored by concessioners for free use at SARF day use sites, represent 21.5 percent of Interagency Passes issued by the Forest Service. Volunteer Passes, which are also not currently honored by concessioners for free use at SARF day use sites, constitute an insignificant percentage of Interagency Passes issued by the Forest Service.

f. Offering Different Discounts on Camping Fees for the Two Sets of Senior and Disability Passes

It is impracticable for the Forest Service to offer different discounts on camping fees, one for holders of Golden Age and Golden Access Passports and another for holders of Senior and Access Passes. Most highly developed Forest Service campgrounds are managed by concessioners, and campsites at these campgrounds are included in the NRRS. It is not feasible under the current technological configuration and contract for the NRRS to distinguish between Golden Age and Golden Access Passports and Senior and Access Passes in providing camping fee discounts for concession sites in the NRRS. Provision of the discount to eligible customers for Forest Service sites in the NRRS is driven by provision of the holder's pass number, not the type of pass. There is no way to differentiate between the numbers for Golden Age and Golden Access Passports and the numbers for Senior and Access Passes in the NRRS because they have the same number of digits. Moreover, there is no national database of pass numbers for either type of pass. Thus, there is no means to verify which discount holders of the two types of passes should receive through the NRRS.

The Agency does not want to discourage use of the NRRS because it is known in the market as the primary portal for campground reservations on Federal lands and it reduces the need to handle cash in remote locations, thereby enhancing public safety and accountability. The Forest Service also does not want to treat reservation and walk-in customers differently with regard to how these two sets of passes are honored at concessions.

Differentiation between the two sets of passes would create an excessive workload for the NRRS because of the need to ensure at all reservation levels (that is, at the call center, over the internet, and for field sales) that the correct discount is being provided. Differentiation would add complexity to field operations by requiring verification of eligibility and would increase the risk of failure for the NRRS contractor in meeting the Government's performance standards by imposing a requirement that is difficult to verify.

Different discounts for the two sets of passes would create inequity among members of two classes of citizens, seniors and the disabled. Under the NRRS, customers are not classified. All customers are considered equal; the only differentiation is that those with a Golden Age or Golden Access Passport or Senior or Access Pass enter the pass number and receive a discount on camping fees. Furthermore, when the Interagency Pass was adopted, holders of Golden Age and Golden Access Passports were encouraged to exchange them for Senior or Access Passes, and many did. Establishing a dual discount policy would seem unfair to these pass holders.

Finally, a dual standard for the two sets of passes would be confusing to current and future pass holders. Therefore, the Forest Service is proposing to offer the same discounts on camping fees to holders of Golden Age and Golden Access Passports as holders of Senior and Access Passes.

g. Analysis of the Concession Industry

In 2008, the Forest Service commissioned a market and financial analysis to assist the Forest Service in understanding current trends in the campground concession industry. As part of the study, interviews were conducted with Forest Service employees across the country at the regional, district, and forest levels; campground concessioners; the National Forest Recreation Association; the Good Sam Club; the National Association of RV Parks and Campgrounds; and the RV Industry Association. While AARP declined to be interviewed, the organization stated via email that it may submit comments on the proposed directives. The Forest Service used the report resulting from the study as part of its analysis in preparing this notice.

h. The Effect of Changing Demographics

Between 2008 and 2022, it is estimated that the number of senior citizens 62 years of age or older in the United States will increase at an average annual rate of approximately 3 percent a year due to the effect of the Baby Boom generation (born between 1946 and 1964). The total senior population will grow by approximately 50 percent from 47 million in 2008 to 70.7 million in 2022, increasing from 15.4 percent of the total population in 2008 to 20.7 percent in 2022 according to census estimates. In contrast, the rest of the U.S. population is expected to decline.

Between 2001 and 2006, the number of concession camping nights sold at a discount was approximately 7.4 percent nationally. By 2007, discounted senior use increased to 11.4 percent nationally. Some concessioners already provide senior discounts on 25 to 30 percent or more of their camping fees. Due to the growth of eligible seniors, the number of discounted camping nights could increase nationally to 17 percent by 2022, assuming current participation rates by seniors and non-seniors in camping.

Concessioners' cost to provide the 50 percent senior and disability discounts in 2007 was approximately $4,000,000 nationally. Given the projected growth in seniors, continuation of the 50 percent senior and disability discount policy could increase the cost of providing the 50 percent discount to $6,000,000 nationally by 2022. This increase in operating costs would likely require a corresponding increase in camping fees for non-seniors, who represent a shrinking demographic in relation to seniors.

Assuming full campsite costs ranging from $10.50 to $15.00 for non-seniors, senior pass holders who would pay $5.25 to $7.50 per night for a family campsite under current Forest Service policy would pay $9.45 to $13.50 for that campsite under the proposed directives. Non-seniors already pay an estimated $1.50 extra to offset the senior discount. If the discount policy remains unchanged, based solely on growth in the number of seniors, campsite cost for non-seniors could increase by $.75 to $1.00 by 2022 strictly to offset the senior discount. The consequential cost of the current policy to non-seniors is inequitable.

i. Forest Service Discount Versus Market Discounts

Now that the Baby Boom generation is starting to retire, many hospitality, travel, and recreation companies have reconsidered their approach to senior discounts. Nevertheless, some level of discounting remains widespread across hospitality industries. Discount levels vary and come with more or less restrictions, but a generally accepted standard appears to be approximately 10 percent, rather than 50 percent, as under current Forest Service policy. Camping discounts in the private sector are not uniquely targeted towards seniors. Where annual membership fees are charged, discounts range from 10 to 50 percent. In contrast to the Forest Service senior discount, participating campgrounds are generally required to honor the 10 percent discount at any time of year, although black-out dates may apply. The 50 percent discount is typically offered only when space is readily available and can therefore be used to encourage off-peak use without reducing peak season income.

j. Proposed Change to Pass Policy for Concessioners

To address the economic impact of escalating senior pass use on concessions, to approximate the market rate for discounts, and to treat all holders of senior and disability passes the same, the Forest Service is proposing to reduce the camping fee discount concessioners are required to offer holders of Golden Age and Golden Access Passports and Senior and Access Passes from 50 to 10 percent. Concession applicants could propose a higher discount in their application to encourage use during off-peak times.

To address the competing objectives of meeting expectations of Interagency Pass holders, while retaining the option to operate SARF day use sites as part of concessions, the Forest Service is also proposing to require concessioners to offer a 10 percent discount to holders of Golden Age and Golden Access Passports and Senior and Access Passes and free use to holders of Annual and Volunteer Passes at SARF day use sites operated by concessioners.

Revenue derived from camping fees represents approximately 88 percent of total concession revenue, while revenue derived from day use sites, most of which comes from SARFs, represents approximately 12 percent of total concession revenue. Reducing the camping fee discount for holders of Golden Age and Golden Access Passports and Senior and Access Passes from 50 percent to 10 percent would increase revenue for concessions by approximately $3,360,000 or 9.6 percent nationally. The report estimates that the current cost of the 50 percent camping fee discount to concessioners is $4.2 million. The proposed directives would reduce the camping fee discount to 10 percent or $0.84 million. The difference between the value of the current discount and the proposed discount, $3.36 million, equals the estimated increase in campground concession revenue ($4.2 million − $.84 million = $3.36 million). Additionally, the report estimates that total campground concession revenue is $35 million. Thus, reducing the camping fee discount for holders of Golden Age and Golden Access Passports and Senior and Access Passes from 50 to 10 percent would increase campground concession revenue by approximately $3.36 million or 9.6 percent of total concession revenue nationally (3.36 ÷ 35 = .096).

Based on 2007 data, the agency estimates that establishing a discount of 10 percent for holders of Golden Age and Golden Access Passports and Senior and Access Passes at concession-operated SARF day use sites would cost concessioners approximately $50,000 nationally (assuming that gross revenue is $4,200,000 and that senior represents 11.4 percent of total use). This cost could increase to $75,000 by 2022 based on the increase in the number of eligible seniors. Granting free use to holders of Annual and Volunteer Passes would cost concessioners approximately $134,000 to $420,000 nationally (assuming that annual pass use ranges from 3.2 to 10 percent of total use). There are insufficient data regarding current pass use at SARF day use sites. Therefore, the lower number in the range is based on the number of Annual and Volunteer Passes issued by the Forest Service, which represents 28 percent of the number of Senior and Access Passes issued by the agency. The higher number in the range is based on the assumption that passes issued by other Federal agencies will be presented at these sites. These two costs combined ($184,000 to $470,000) represent approximately 0.53 to 1.3 percent of all Forest Service campground concession revenue nationally.

The agency estimates that the cost of providing a 10 percent discount for holders of Golden Age and Golden Access Passports and Senior and Access Passes and free use to holders of Annual and Volunteer Passes at SARF day use sites would be offset by the estimated $3,360,000 increase in revenue nationally from reducing the camping fee discount for holders of Golden Age and Golden Access Passports and Senior and Access Passes. The agency estimates that the concession program as a whole would experience a net revenue increase of approximately 8.3 to 9.0 percent based on the combined effect of the reduced discount on camping fees for holders of Golden Age and Golden Access Passports and Senior and Access Passes; the 10 percent discount for holders of those passes at SARF day use sites; and free use for holders of Annual and Volunteer Passes at concession-operated SARF day use sites.

If existing concessioners would experience a net decrease in revenue, they could elect not to amend their permit to include the requirements in the proposed directives. When permits are reoffered, the Agency would strive to compose the offering so that implementation of the proposed directives would not render a concession uneconomical. Where revenue generated from SARF day use sites is substantial, the prospectus would allow applicants to propose separate percentages of gross revenue for SARF day use sites and camping.

The effect of these policy changes on a particular concession would vary depending on the amount of revenue generated from camping fees relative to the amount of revenue generated from SARF day use sites. Some concessions would experience a significant increase in revenue, while others might experience little or no change. The Forest Service is proposing to amend the land use fee to maintain market value for existing concessioners who agree to have their permits changed to reflect the new policy. Specifically, the Forest Service is proposing to increase the land use fee by adding a surcharge for the balance of these concessioners' permit term in accordance with the schedule below.

Increase in gross revenue | Percentage of gross revenue added to the land use fee
$10,000 or less | No change.
$10,001 to $25,000 | +0.25.
$25,001 to 50,000 | +0.5.
$50,001 to 75,000 | +1.0.
$75,001 to 100,000 | +1.5.
Over $100,000 | +2.0.

The example below illustrates the economic effect of the proposed directives on a concession that has a significant SARF day use component. In this example, a concession generates approximately $500,000 in revenue, 50 percent of which is generated from camping fees, and 50 percent is generated from day use; 11.4 percent of campers and day users hold Senior or Access Passes, and 3 percent of day users hold Annual or Volunteer Passes.

Overnight use | Camper nights | Current camping fee | Current revenue | Proposed camping fee | Potential revenue | Change in revenue/land use fee
No Pass | 15,703 | $15.00 | $235,545 | $15.00 | $235,545
Senior and Access Passes | 2,021 | 7.50 | 15,158 | 13.50 | 27,284
Totals | 17,724 |  | 250,703 |  | 262,829 | +12,126

Day use | Use days | Current use fee |  | Proposed use fee |  | Change in revenue/land use fee
No Pass | 36,581 | $5.85 | $213,999 | $5.85 | $213,999
Senior and Access Passes | 4,872 | 5.85 | 28,501 | 5.27 | 25,675
Annual and Volunteer Passes | 1,282 | 5.85 | 7,500 | 0 | 0
Totals | 42,735 |  | 250,000 |  | 239,674 | −$10,326
Net Change in Revenue |  |  |  |  |  | +1,800
Surcharge |  |  |  |  |  | none
In this scenario, net concession revenue would increase by only $1,800, so there would be no surcharge.

k. Summary

The proposed 10 percent discount for seniors and the disabled would be comparable to other market discounts and would be sustainable for concession operations, even with changing demographics. The reduction in the camping fee discount, combined with the added discount and free use at SARF day use sites, would generate sufficient revenue to sustain viable concession operations and correct the unsustainable cost of a non-market based senior discount. These changes are both necessary and timely. Furthermore, the proposed changes would ensure consistency and fairness in the Forest Service's concessions pass policy.

Proposed policy changes that are adopted would be incorporated as appropriate in the standard prospectus; the standard special use permit for concession campgrounds and related Granger-Thye improvements, form FS-2700-4h; and other applicable forms.

2. Section-by-Section Analysis of Proposed Changes to FSM 2344.3, Campgrounds and Related Granger-Thye Concessions

In General

FSM 2344.3 would be revised, and section 2344.31, paragraph 1, would be replaced with proposed paragraphs 1, 2, 2(a), 2(b), 2(c), and 3. Current paragraphs 2, 3, and 7 would be renumbered to 5, 6, and 10 and revised, respectively, to replace references to the LWCFA with a reference to REA if applicable and to incorporate amendments to Section 7 of the Granger-Thye Act. The remaining current paragraphs 4, 5, 6, 8, 9 would be renumbered to 7, 8, 9, 11, and 12 respectively.

2344.3—Campground and Related Granger-Thye Concessions

FSM 2344.3 would be revised to replace the reference to the LWCFA with a reference to REA. Additionally, the title would be revised for consistency with the standard campground concession permit.

2344.31—Policy

Current Paragraph 1

This paragraph would be revised to conform to the current practice in concession prospectuses and the NRRS of requiring a 50 percent discount for holders of Senior and Access Passes. Additionally, it would limit the requirement to extend a 50 percent discount to holders of Golden Age and Golden Access Passports and Senior and Access Passes to permits that are in effect before the effective date of the revised directives, unless concessioners agree to amend their permit to reflect all of the new requirements in paragraphs 2(a), 2(b), 2(c), and 3.

Proposed Paragraph 2

This paragraph would address the new policy for honoring passes at concessions.

Proposed Paragraph 2(a)

Paragraph 2(a) would reduce the discount on camping fees which concessioners are required to provide to holders of Golden Age and Golden Access Passports and Senior and Access Passes from 50 to 10 percent. Additionally, paragraph 2(a) would allow concessioners to propose higher discounts in their applications.

Proposed Paragraph 2(b)

Paragraph 2(b) would require concessioners to provide a 10 percent discount at SARF day use sites to holders of Golden Age and Golden Access Passports and Senior and Access Passes.

Proposed Paragraph 2(c)

Paragraph 2(c) would require concessioners to provide free use to holders of Annual and Volunteer Passes at SARF day use sites.

Proposed Paragraph 3

For existing concessioners who elect to amend their permits to incorporate the changes to the concession pass policy in the proposed directives, this paragraph would impose an increase in the land use fee if their gross revenue increases by more than $10,000 from the reduction in the camping fee discount.

Proposed Paragraph 4

This paragraph would clarify that required discounts and free use to pass holders must be factored into proposed land use fees.

Current Paragraphs 2 and 3

Current paragraph 2 in FSM 2344.31 would be renumbered as paragraph 5, and current paragraph 3 would be renumbered as paragraph 6. Proposed paragraphs 5 and 6 would cite the new FSH on publicly managed recreation sites or REA, rather than the LWCFA.

Current Paragraph 7

This paragraph would be renumbered as paragraph 10 and would be revised to conform with amendments to Section 7 of the Granger-Thye Act regarding land use fee offset.

Current Paragraph 9

This paragraph would be renumbered as paragraph 12 and would cite the new FSH on publicly managed recreation sites. Additionally, this paragraph would be revised to include the requirements of the NRRS contract, including the need to make at least 60 percent of campsites reservable and to allow reservations to be made on the date of arrival or up to 4 days in advance of arrival. However, the permit clause addressing the NRRS would be removed from the FSM and placed in the standard campground concession permit form, FS-2700-4h.

Current Paragraphs 4, 5, 6, and 8

These paragraphs would be renumbered as 7, 8, 9, and 11.

3. Regulatory Requirements

Environmental Impact

These proposed directives would revise national Forest Service policy governing administration of concession permits. Forest Service regulations at 36 CFR 220.6(d)(2) exclude from documentation in an environmental assessment or environmental impact statement “rules, regulations, or policies to establish Servicewide administrative procedures, program processes, or instructions.” The Agency has concluded that these proposed directives fall within this category of actions and that no extraordinary circumstances exist which would require preparation of an environmental assessment or environmental impact statement.

Regulatory Impact

These proposed directives have been reviewed under USDA procedures and Executive Order (E.O.) 12866 on regulatory planning and review. The Office of Management and Budget has determined that these directives are not significant. These directives would alter recreation use fees paid by the public at concessions. Therefore, these proposed directives would not have an annual effect of $100 million or more on the economy, nor would they adversely affect productivity, competition, jobs, the environment, public health and safety, or State or local governments. These proposed directives would not interfere with an action taken or planned by another agency, nor would they raise new legal or policy issues. Finally, these proposed directives would not alter the budgetary impact of entitlement, grant, or loan programs or the rights and obligations of beneficiaries of those programs. Accordingly, these proposed directives are not subject to Office of Management and Budget review under E.O. 12866.

Moreover, the Agency has considered these proposed directives in light of the Regulatory Flexibility Act (5 U.S.C. 602 et seq.). Pursuant to a threshold Regulatory Flexibility Act analysis, the Agency has determined that these proposed directives would not have a significant economic impact on a substantial number of small entities as defined by the Act because the proposed directives would not impose new recordkeeping requirements on them; the proposed directives would not affect their competitive position in relation to large entities; and the proposed directives would not significantly affect their cash flow, liquidity, or ability to remain in the market. To the contrary, these proposed directives would either have a positive or neutral effect on the economics of concessions. The benefits are not likely to alter costs to small businesses. Revenue for small entities is likely to increase from 0.5 to 8.3 percent as a result of these proposed directives.

No Takings Implications

The Agency has analyzed these proposed directives in accordance with the principles and criteria contained in E.O. 12630 and has determined that the proposed directives would not pose the risk of a taking of private property.

Civil Justice Reform

These proposed directives have been reviewed under E.O. 12988 on civil justice reform. If the proposed directives were adopted, (1) All State and local laws and regulations that conflict with the proposed directives or that would impede their full implementation would be preempted; (2) no retroactive effect would be given to the proposed directives; and (3) they would not require administrative proceedings before parties may file suit in court challenging their provisions.

Federalism and Consultation and Coordination With Indian Tribal Governments

The Agency has considered these proposed directives under the requirements of E.O. 13132 on federalism and has concluded that the proposed directives conform with the federalism principles set out in this E.O.; would not impose any compliance costs on the States; and would not have substantial direct effects on the States, the relationship between the Federal Government and the States, or the distribution of power and responsibilities among the various levels of government. Therefore, the Agency has determined that no further assessment of federalism implications is necessary at this time.

Moreover, these proposed directives do not have tribal implications as defined by E.O. 13175, entitled “Consultation and Coordination With Indian Tribal Governments,” and therefore advance consultation with Tribes is not required.

Energy Effects

The Agency has reviewed the proposed directives under E.O. 13211, entitled “Actions Concerning Regulations That Significantly Affect Energy Supply, Distribution, or Use.” The Agency has determined that these proposed directives do not constitute a significant energy action as defined in the E.O.

Unfunded Mandates

Pursuant to Title II of the Unfunded Mandates Reform Act of 1995 (2 U.S.C. 1531-1538), the Agency has assessed the effects of these proposed directives on State, local, and Tribal Governments and the private sector. These proposed directives would not compel the expenditure of $100 million or more by any State, local, or Tribal Government or anyone in the private sector. Therefore, a statement under section 202 of the act is not required.

Controlling Paperwork Burdens on the Public

These proposed directives do not contain any new recordkeeping or reporting requirements or other information collection requirements as defined in 5 CFR Part 1320 that are not already required by law or not already approved for use. Any information collected from the public that would be required by these proposed directives has been approved by the Office of Management and Budget and assigned control number 0596-0082. Accordingly, the review provisions of the Paperwork Reduction Act of 1995 (44 U.S.C. 3501 et seq.) and its implementing regulations at 5 CFR Part 1320 do not apply.

4. Access to the Proposed Directives

The intended audience for this direction is Forest Service employees charged with issuing and administering concession permits. To view the proposed directives, visit the Forest Service's Web site at http://www.fs.fed.us/specialuses/. Only the section of the FSM that is the subject of this notice has been posted, i.e., FSM 2344.3, Campgrounds and Related Granger-Thye Concessions.

Dated: November 24, 2009.
Hank Kashdan,
Associate Chief.

[FR Doc. E9-28744 Filed 11-30-09; 8:45 am]

BILLING CODE 3410-11-P